SMALL BUSINESS ADMINISTRATION

Data Collection Available for Public Comments

ACTION: 60-Day notice and request for comments.

SUMMARY: The Small Business Administration (SBA) intends to request approval, from the Office of Management and Budget (OMB) for the collection of information described below. The Paperwork Reduction Act (PRA) requires federal agencies to publish a notice in the Federal Register concerning each proposed collection of information before submission to OMB, and to allow 60 days for public comment in response to the notice. This notice complies with that requirement.

DATES: Submit comments on or before August 25, 2025.

ADDRESSES: Send all comments to Michael Donadieu, National Director, Examinations Unit, OII, Small Business Administration, Washington, DC 20416.

FOR FURTHER INFORMATION CONTACT: Michael Donadieu, Senior Examiner, Office of SBIC Examinations, OII, 202-255-1007, michael.donadieu@sba.gov, or Shauniece Carter, Interim Agency Clearance Officer, 202-205-6536, shauniece.carter@sba.gov.

SUPPLEMENTARY INFORMATION: Form 857 is used by SBA examiners to obtain information about financing provided by small business investment companies (SBICs). This information, which is collected directly from the financed small business, provides independent confirmation of information reported to SBA by SBICs, as well as additional information not reported by SBICs.

OMB Control Number 3245-0109

Title: “Request for Information Concerning Portfolio Financing”.

Description of Respondents: Small Business Investment Companies.

Form Number: 857.

Annual Responses: 2,250.

Annual Burden: 2,250.

Shauniece Carter,
Interim Agency Clearance Officer.

[FR Doc. 2025-11535 Filed 6-23-25; 8:45 am]

BILLING CODE 8026-03-P